DEPARTMENT OF COMMERCE

International Trade Administration

[A-570-890]

Notice of Amended Final Determination of Sales at Less Than Fair Value/Pursuant to Court Decision: Wooden Bedroom Furniture from the People's Republic of China

AGENCY: Import Administration, International Trade Administration, U.S. Department of Commerce.

SUMMARY: On December 20, 2005, the United States Court of International Trade (“CIT”) issued an order sustaining the Department of Commerce's (“the Department”) Final Results of Redetermination pursuant to court remand filed by the Department on November 7, 2005. Decca Hospitality Furnishings, LLC v. United States, Ct. No. 05-00002, Slip Op. 05-161 (Ct. Int'l Trade, December 20, 2005) (“Decca Order”). The remand redetermination arose out of the Department's final determination and amended final determination and order. See Notice of Final Determination of Sales at Less Than Fair Value: Wooden Bedroom Furniture from the People's Republic of China, 69 FR 67313 (November 17, 2004) (“Final Determination”), and Notice of Amended Final Determination of Sales at Less Than Fair Value and Antidumping Duty Order: Wooden Bedroom Furniture from the People's Republic of China, 70 FR 329 (January 4, 2005) (“Amended Final Determination”). On May 16, 2006, the United States Court of Appeals for the Federal Circuit (“CAFC”) granted Petitioners' (i.e., American Furniture Manufacturer's Committee for Legal Trade (“AFMC”)) motion for a voluntary dismissal of this case. Because the litigation in this matter is concluded, the Department is issuing an amended final determination in accordance with the CIT's decision.

EFFECTIVE DATE: June 14, 2006.

FOR FURTHER INFORMATION CONTACT: Eugene Degnan, AD/CVD Operations, Office 8, Import Administration, International Trade Administration, U.S. Department of Commerce, 14th Street and Constitution Avenue, NW, Washington DC 20230; telephone (202) 482-0414.

SUPPLEMENTARY INFORMATION:

Background

On November 17, 2004, the Department of Commerce (“the Department”) published its notice of final determination of sales at less than fair value (“LTFV”) in the investigation of wooden bedroom furniture the People's Republic of China (“PRC”). See Final Determination. On January 4, 2005, the Department published its notice of amended final determination in the investigation of wooden bedroom furniture from the PRC. See Amended Final Determination.

Decca Hospitality Furnishings, LLC on behalf of its affiliate Decca Furniture, Ltd. (“Decca”) challenged certain aspects of the Department's Final Determination at the CIT.

In Decca Hospitality Furnishings, LLC v. United States, 391 F. Supp. 2d 1298 (CIT 2005), the CIT remanded the Department's determination to reject, as untimely, certain information submitted by Decca. Specifically, the CIT's order directed that:

In its remand determination Commerce may reopen the record and may find a) that Decca received actual and timely notice of the Section A Questionnaire requirement, b) that the evidence Decca presented does not satisfy the evidentiary requirements for a separate rate, or c) that Decca is entitled to a separate rate.

Id. at 1317.

On October 25, 2005, the Department issued a draft results of redetermination pursuant to remand to the interested parties. On October 27, 2005, Decca submitted comments in response to the Department's draft results of redetermination. No other party filed comments in response to the Department's draft results of redetermination pursuant to remand. On November 7, 2005, the Department submitted its final results of redetermination pursuant to remand to the CIT. The final results of remand redetermination explained that option (a) of the CIT's remand instructions was not a viable option for the Department to pursue because it was not possible for the Department to determine if Decca had received actual and timely notice of the Section A Questionnaire requirement. Therefore, pursuant to options (b) and (c), the Department reopened the record and allowed Decca to resubmit its July 2, 2004, submission. During the conduct of its remand, the Department issued two supplemental questionnaires to Decca to address some deficiencies found in Decca's July 2, 2004, submission. Decca submitted timely and complete responses to these questionnaires. Based on our analysis of Decca's evidence, we determined that Decca qualifies for a separate rate in the investigation of wooden bedroom furniture from the PRC. See Final Results of Redetermination Pursuant to Court Remand, November 7, 2005.

On December 20, 2005, the CIT found that the Department duly complied with the Court's remand order and sustained the Department's remand redetermination. See Decca Order. Within the Decca Order, the Department granted Decca a separate rate which changed its antidumping duty rate from the PRC-wide rate of 198.08 percent to the Section A respondent rate of 6.65 percent.

On January 6, 2006, consistent with the decision in Timken Co. v. United States, 893 F. 2d 337 (Fed. Cir. 1990), the Department notified the public that the CIT's decision was not “in harmony” with the Department's final determination. See Wooden Bedroom Furniture from the People's Republic of China: Notice of Court Decision Not in Harmony, 71 FR 1511 (January 10, 2006). AFMC appealed the CIT's decision to the CAFC. On May 16, 2006, the CAFC granted AFMC's motion to voluntarily dismiss its appeal.

Amended Final Determination

Because the only appeal in this case has been dismissed, there is now a final and conclusive court decision in the court proceeding and we are thus amending the Amended Final Determination to reflect the results of our remand determination.

The revised dumping margin is as follows:

Company | Weighted-Average Margin (Percent)
Decca | 6.65

U.S. Customs and Border Protection will require a cash deposit rate of 6.65 percent for subject merchandise exported by Decca and entered or withdrawn from warehouse from consumption on or after the effective date of this notice. This cash deposit requirement shall remain in effect until publication of the final results of an administrative review of this order.

This notice is published in accordance with sections 735(d) and 777(i) of the Act.

Dated: June 7, 2006.
David M. Spooner,
Assistant Secretary for Import Administration.

[FR Doc. E6-9313 Filed 6-13-06; 8:45 am]

BILLING CODE 3510-DS-S